DEPARTMENT OF ENERGY

International Energy Agency Meetings

AGENCY: Department of Energy.

ACTION: Notice of meetings.

SUMMARY: The Industry Advisory Board (IAB) to the International Energy Agency (IEA) will meet on February 24, 2015, at the headquarters of the IEA in Paris, France in connection with a joint meeting of the IEA's Standing Group on Emergency Questions (SEQ) and the IEA's Standing Group on the Oil Market (SOM) on that day, and on February 25, 2015, in connection with a meeting of the SEQ on that day.

DATES: February 24-25, 2015.

ADDRESSES: 9, rue de la Fédération, Paris, France.

FOR FURTHER INFORMATION CONTACT: Diana D. Clark, Assistant General Counsel for International and National Security Programs, Department of Energy, 1000 Independence Avenue SW., Washington, DC 20585, 202-586-3417.

SUPPLEMENTARY INFORMATION: In accordance with section 252(c)(1)(A)(i) of the Energy Policy and Conservation Act (42 U.S.C. 6272(c)(1)(A)(i)) (EPCA), the following notice of meetings is provided:

Meetings of the Industry Advisory Board (IAB) to the International Energy Agency (IEA) will be held at the headquarters of the IEA, 9, rue de la Fédération, Paris, France, on February 24, 2015, commencing at 9:30 a.m. and continuing at 9:30 a.m. on February 25, 2015. The purpose of this notice is to permit attendance by representatives of U.S. company members of the IAB at a joint meeting of the IEA's Standing Group on Emergency Questions (SEQ) and the IEA's Standing Group on the Oil Markets (SOM) on February 24 at the same location commencing at 9:30 a.m., and at a meeting of the SEQ on February 25 at the same location commencing at 9:30 a.m. The IAB will also hold a preparatory meeting among company representatives at the same location at 8:30 a.m. on February 25. The agenda for this preparatory meeting is to review the agenda for the SEQ meeting.

The agenda of the joint meeting of the SEQ and the SOM on February 24 is under the control of the SEQ and the SOM. It is expected that the SEQ and the SOM will adopt the following agenda:

1. Adoption of the Agenda

2. Approval of the Summary Record of the October 21, 2014 Joint Session

3. Reports on Recent Oil Market and Policy Developments in IEA Countries

4. Update on Offshore Installation Manager Projects and Priorities

5. The Current Oil Market Situation

6. Medium-Term Outlook for OPEC and Non-OPEC Supply

7. Medium-Term Outlook for Demand

8. Medium-Term Outlook for Trade, Refining, and Product Supply

9. The Economic Impact of Lower Oil Prices: Focus on the Middle East, North Africa, the Caucasus, and Central Asia

10. The Natural Gas Market in a Low-Oil-Price Environment

11. The Renewables Industry in a Low-Oil-Price Environment

12. Other Business

—Tentative schedule of upcoming SEQ and SOM meetings:

—June 23-25, 2015

—October 13-15, 2015

The agenda of the SEQ meeting on February 25 is under the control of the SEQ. It is expected that the SEQ will adopt the following agenda:

1. Adoption of the Agenda

2. Approval of the Summary Record of the 143rd Meeting

3. Status of Compliance with IEP Stockholding Obligations

4. Emergency Response Review Program

5. Emergency Response Review of Canada

6. Emegency Response Exercise in China

7. Mid-Term Review of the Netherlands

8. Emergency Response Exercise 7 Evaluation

9. Industry Advisory Board Update

10. Emergency Response Review of Greece

11. Mid-Term Review of Sweden

12. Outreach

—APSA/Chile/Colombia

13. Association Update

14. Nexus Forum—Resilience Next Steps

15. Other Business

—Tentative schedule of next meetings:

—June 23-25, 2015

—October 13-15, 2015

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accounting Office, Committees of Congress, the IEA, and the European Commission; and invitees of the IAB, the SEQ, the SOM, or the IEA.

Issued in Washington, DC, February 11, 2015.
Diana D. Clark,
Assistant General Counsel for International and National Security Programs.

[FR Doc. 2015-03181 Filed 2-13-15; 8:45 am]

BILLING CODE 6450-01-P